DEPARTMENT OF ENERGY

Federal Energy Regulatory Commission

Combined Notice of Filings #2

Take notice that the Commission received the following electric rate filings:

Docket Numbers: ER14-2586-002.

Applicants: California Independent System Operator Corporation.

Description: Compliance filing per 35: 20150612_IPE4-5_SecondCompliance to be effective 2/2/2015.

Filed Date: 6/12/15.

Accession Number: 20150612-5130.

Comments Due: 5 p.m. ET 7/6/15.

Docket Numbers: ER15-1430-001.

Applicants: Appalachian Power Company.

Description: Tariff Amendment per 35.17(b): Reactive Supply and Voltage Control Amendment Amd to be effective 6/1/2015.

Filed Date: 6/12/15.

Accession Number: 20150612-5143.

Comments Due: 5 p.m. ET 7/6/15.

Docket Numbers: ER15-1432-001.

Applicants: AEP Generation Resources Inc.

Description: Tariff Amendment per 35.17(b): Reactive Supply and Voltage Control Amendment Amd to be effective 6/1/2015.

Filed Date: 6/12/15.

Accession Number: 20150612-5145.

Comments Due: 5 p.m. ET 7/6/15.

Docket Numbers: ER15-1444-001.

Applicants: Wheeling Power Company.

Description: Compliance filing per 35: Power Coordination Agreement Concurrence Compliance to be effective 6/1/2015.

Filed Date: 6/12/15.

Accession Number: 20150612-5150.

Comments Due: 5 p.m. ET 7/6/15.

Docket Numbers: ER15-1446-001.

Applicants: Wheeling Power Company.

Description: Compliance filing per 35: System Integration Agreement Concurrence Compliance to be effective 6/1/2015.

Filed Date: 6/12/15.

Accession Number: 20150612-5151.

Comments Due: 5 p.m. ET 7/6/15.

Docket Numbers: ER15-1912-000.

Applicants: PJM Interconnection, L.L.C.

Description: Section 205(d) rate filing per 35.13(a)(2)(iii): Service Agreement Nos. 2526, 2527, 2528, and 2529 to be effective 5/13/2015.

Filed Date: 6/12/15.

Accession Number: 20150612-5207.

Comments Due: 5 p.m. ET 7/6/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 12, 2015.
Kimberly D. Bose,
Secretary.

[FR Doc. 2015-15102 Filed 6-18-15; 8:45 am]

BILLING CODE 6717-01-P